DEPARTMENT OF ENERGY

Federal Energy Regulatory Commission

[Docket No. EC02-41-000, et al.]

PG&E Dispersed Power Corporation, et al.; Electric Rate and Corporate Regulation Filings

January 8, 2002.

Take notice that the following filings have been made with the Commission. Any comments should be submitted in accordance with Standard Paragraph E at the end of this notice.

1. PG&E Dispersed Power Corporation and RAMCO, Inc.

[Docket No. EC02-41-000]

Take notice that on January 4, 2001 PG&E Dispersed Power Corporation (PG&E Dispersed Power) and RAMCO, Inc. (RAMCO) filed with the Federal Energy Regulatory Commission (Commission) an application pursuant to Section 203 of the Federal Power Act for authorization to consolidate certain jurisdictional facilities. PG&E Dispersed Power proposes to purchase 100% of the ownership shares of RAMCO. The jurisdictional facilities involved consist of RAMCO's market-based rate tariff, contracts, and books and records associated with the sale of wholesale power. RAMCO makes sales at wholesale of capacity, energy, and ancillary services from two 44 MW peaking generating plants interconnected with the transmission system subject to the operational control of the California ISO. Applicants have requested privileged treatment for the Stock Purchase and Sale Agreement between PG&E Dispersed Power and RAMCO.

A copy of this Application was served upon the California Public Utilities Commission and the Governor of California.

Comment Date: January 28, 2002.

2. ATCO Power Canada Ltd.

[Docket No. ER99-3282-004]

Take notice that on December 28, 2001, ATCO Power Canada Ltd, submitted for filing with the Federal Energy Regulatory Commission (Commission) a new market analysis and report of changes in status for ATCO Power Canada Ltd., formerly CU Power Canada Limited.

Comment Date: January 18, 2002.

3. Cleco Power LLC

[Docket No. ER02-686-000]

Take notice that on January 3, 2002 Cleco Power LLC (Cleco) filed a First Revised Service Agreement No. 50 under Cleco Power FERC Electric Tariff, Original Volume No. 1.

Comment Date: January 24, 2002.

4. FMF Energy, Inc.

[Docket No. ER02-687-000]

Take notice that on January 3, 2002, FMF Energy, Inc. (FMF) petitioned the Federal Energy Regulatory Commission (Commission) for acceptance of FMF Rate Schedule FERC No. 1; the granting of certain blanket approvals, including the authority to sell electricity at market-based rates; and the waiver of certain Commission regulations.

FMF intends to engage in wholesale electric power and energy purchases and sales as a marketer. FMF is not in the business of generating or transmitting electric power. FMF is closely held corporation with no affiliates.

Comment Date: January 24, 2002.

5. California Independent System Operator Corporation

[Docket No. ER02-688-000]

Take notice that on January 3, 2002, the California Independent System Operator Corporation, (ISO), tendered for filing with the Federal Energy Regulatory Commission (Commission) a Meter Service Agreement for ISO Metered Entities between the ISO and King City Energy Center, LLC for acceptance by the Commission. The ISO states that this filing has been served on King City Energy Center, LLC and the California Public Utilities Commission.

The ISO is requesting waiver of the 60-day notice requirement to allow the Meter Service Agreement for ISO Metered Entities to be made effective December 19, 2001.

Comment Date: January 24, 2002.

6. California Independent System Operator Corporation

[Docket No. ER02-689-000]

Take notice that on January 3, 2002, the California Independent System Operator Corporation, (ISO) , tendered for filing with the Federal Energy Regulatory Commission (Commission) a Participating Generator Agreement between the ISO and King City Energy Center, LLC for acceptance by the Commission. The ISO states that this filing has been served on King City Energy Center, LLC and the California Public Utilities Commission.

The ISO is requesting waiver of the 60-day notice requirement to allow the Participating Generator Agreement to be made effective December 19, 2001.

Comment Date: January 24, 2002.

7. Virginia Electric and Power Company

[Docket No. ER02-690-000]

Take notice that on January 3, 2002, Virginia Electric and Power Company (the Company) tendered for filing a Service Agreement by Virginia Electric and Power Company to Conectiv Energy Supply, Inc., designated as Service Agreement No. 9, under the Company's short-form market-based rate tariff, FERC Electric Tariff, Original Volume No. 6., effective on June 15, 2001. Copies of the filing were served upon Conectiv Energy Supply, Inc., the Virginia State Corporation Commission, and the North Carolina Utilities Commission.

The Company requests an effective date of December 12, 2001, as requested by the customer.

Comment Date: January 24, 2002.

8. Virginia Electric and Power Company

[Docket No. ER02-691-000]

Take notice that on January 3, 2002, Virginia Electric and Power Company (the Company) tendered for filing a Service Agreement for Short-Term Market Rate Electric Power Sales and the Resale of Transmission Rights with The New Power Company.

Under the Service Agreement, the Company will provide services to the customer under the terms of the Company's Revised Market-Based Rate Tariff designated as FERC Electric Tariff (Third Revised Volume No. 4), which was accepted by order of the Commission dated August 30, 2000 in Docket No. ER00-1737-001. The Company requests an effective date of January 1, 2002, as requested by the customer.

Copies of the filing were served upon The New Power Company, the Virginia State Corporation Commission and the North Carolina Utilities Commission.

Comment Date: January 24, 2002.

9. Southern California Edison Company

[Docket No. ER02-692-000]

Take notice that on January 3, 2002, Southern California Edison Company (SCE) submitted a Letter Agreement between SCE and the City of Industry Public Utilities Commission (Industry).

The Letter Agreement provides for pre-interconnection activities including engineering, design, procurement and preparation of specifications. Copies of this filing were served upon the Public Utilities Commission of the State of California and Industry.

Comment Date: January 24, 2002.

10. Deseret Generation & Transmission Co-operative, Inc.

[Docket No. ER02-693-000]

Take notice that on January 3, 2002, Deseret Generation & Transmission Co-operative, Inc. (Deseret) submitted for filing an Amended and Restated Confirmation Agreement between Deseret and Utah Associated Municipal Power Systems (UAMPS) for a unit commitment service without reserves pursuant to Schedule B of the Western Systems Power Pool Agreement. Deseret requests an effective date of October 1, 2001. A copy of this filing has been served on UAMPS and counsel to the WSPP.

Comment Date: January 24, 2002.

11. Duke Energy Hot Spring, LLC

[Docket No. ER02-694-000]

Take notice that on January 3, 2002, Duke Energy Hot Spring, LLC (Duke Hot Spring) tendered for filing pursuant to Section 205 of the Federal Power Act its proposed FERC Electric Tariff No. 1.

Duke Hot Spring seeks authority to sell energy and capacity, as well as ancillary services, at market-based rates, together with certain waivers and preapprovals. Duke Hot Spring also seeks authority to sell, assign, or transfer transmission rights that it may acquire in the course of its marketing activities. Duke Hot Spring seeks an effective date of March 1, 2002, the date on which Duke Hot Spring anticipates commencing the sale of test energy.

Comment Date: January 24, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

C.B. Spencer,
Acting Secretary.

[FR Doc. 02-841 Filed 1-11-02; 8:45 am]

BILLING CODE 6717-01-P